DEPARTMENT OF HEALTH AND HUMAN SERVICES

42 CFR Part 130

RIN 0906-AA56

Ricky Ray Hemophilia Relief Fund Program

AGENCY: Health Resources and Services Administration, HHS.

ACTION: Interim final rule; status of comments and confirmation of effective date.

SUMMARY: This document is to inform potential petitioners that the Department has received several comments on the Ricky Ray Hemophilia Relief Fund Program's interim final rule, published on May 31, 2000. The Department has reviewed all of these comments carefully and continues to consider the suggestions made in these comments. However, none of the comments received by the Department leads us to change the substance of the regulation, the petition form, or the confidential physician or nurse practitioner affidavit appended to the interim final rule at this time. In addition, these comments do not change the effective date of the interim final rule or the fact that July 31, 2000, will be the first date that petitions for payment may be postmarked or accompanied by a receipt from a commercial carrier or the U.S. Postal Service.

DATES: The interim final rule published on May 31, 2000, remains effective on July 31, 2000.

FOR FURTHER INFORMATION CONTACT: Paul T. Clark, Program Manager, Ricky Ray Program Office, Bureau of Health Professions, Health Resources and Services Administration, Room 8A-54, Parklawn Building, 5600 Fishers Lane, Rockville, Maryland 20857; (301) 443-2330.

SUPPLEMENTARY INFORMATION: The Ricky Ray Hemophilia Relief Fund Act of 1998 established the Ricky Ray Hemophilia Relief Fund Program, which is designed to provide compassionate payments to certain individuals with blood-clotting disorders, such as hemophilia, who contracted HIV through the use of antihemophilic factor administered between July 1, 1982, and December 31, 1987. The Act also provides for compassionate payments for certain persons who contracted HIV from the foregoing individuals for for certain survivors of these individuals.

On May 31, 2000 (65 FR 34860), the Department published an interim final rule to establish procedures and requirements for documentation of eligibility and to establish a mechanism for providing compassionate payments to individuals who are eligible for payment under the Act. Attached to the rule was a confidential physician or nurse practitioner affidavit, a petition form, and petition instructions, which included a documentation checklist.

The May 31, 2000, document solicited public comments on the interim final rule and indicated that June 30, 2000, was the deadline for the submission of all such comments. The regulation further indicated that the interim final rule would become effective on July 31, 2000, and that petitions could be postmarked, or accompanied by a receipt from a commercial carrier or the U.S. Postal Service, on but not before July 31, 2000. The interim final rule specified that should the Department receive any significant comments that would cause us to revise the rule in any way that would affect the filing of the petitions, the Department would be able to do so, or to advise potential petitioners of our intent to do so, before such potential petitioners took any final action to file petitions for compensation.

Since the date of the interim final rule's publication, the Department has received several comments. The Department has reviewed all of these comments carefully. Some of these comments may warrant minor modifications to the interim final rule and we may elect to publish a response to these comments at a later date. However, none of the comments received by the Department leads us to change the substance of the regulation, the petition form, or the confidential physician or nurse practitioner affidavit at this time. In addition, the documentation required for various categories of petitioners to file a complete petition has not changed. Finally, the comments received by the Department do not change the effective date of the interim final rule. thus July 31, 2000, will continue to be the effective date of the interim final rule. Petitions for compassionate payments may be postmarked, or accompanied by a receipt from a commercial carrier or the U.S. Postal Service, on but not before July 31, 2000.

Dated: July 18, 2000.
Claude Earl Fox,
Administrator, Health Resources and Services Administration.

Dated: July 28, 2000.
Donna E. Shalala,
Secretary.

[FR Doc. 00-19471 Filed 7-31-00; 8:45 am]

BILLING CODE 4160-15-M